DEPARTMENT OF AGRICULTURE

Foreign Agricultural Service

Notice of Request for New Information Collection on Genetic Resources for U.S. Food and Agriculture

AGENCY: Foreign Agricultural Service, USDA.

ACTION: Notice and request for comments.

SUMMARY: In accordance with the Paperwork Reduction Act of 1995 (44 U.S.C. Chapter 35), this notice announces the Foreign Agricultural Service's intention, in collaboration with the University of Illinois, to request a new information collection for genetic resources relevant to U.S. food and agriculture.

DATES: Comments and recommendations must be received on or before June 2, 2008. Comments received after this date will not be considered.

FOR FURTHER INFORMATION CONTACT: Dr. Jennifer Long, Visiting Assistant Research Professor, Department of Biological Sciences, University of Illinois, 845 W. Taylor Street (MC 066), Chicago, IL 60607, e-mail at vernlong@uic.edu.

SUPPLEMENTARY INFORMATION:

Title: Food and Agricultural Genetic Resources.

OMB Number: To be assigned by OMB.

Expiration Date of Approval: Three years from approval date.

Type of Request: New information collection.

Abstract: The Foreign Agricultural Service, in collaboration with the University of Illinois, will be gathering information on the international sources and uses of genetic resources relevant to U.S. food and agriculture. FAS and other USDA agencies would like to obtain information from a broad base of stakeholders on how the sources and uses of genetic resources may affect U.S. food and agricultural research and development activities. This information will assist FAS in further developing U.S. policy positions to be advanced in international forums such as the United Nations Food and Agricultural Organization (UN FAO) Commission on Genetic Resources for Food and Agriculture and the United Nations Environmental Program (UNEP) Convention on Biological Diversity. Information collected from stakeholders will consist of an online survey, followed by a phone interview, to identify the sources and uses of genetic resources in the stakeholders' research and development activities. A maximum of two additional phone interviews may be held with respondents to clarify information from survey responses. Authority to collect this information falls under 7 U.S.C. Part 5693 and it is voluntary for stakeholders to participate. The data will be collected through a secure, online survey instrument and will be stored on a secure, password protected server at the University of Illinois. Only individuals with proper authorization (i.e., a password) will have access to the data.

Estimate of Burden: Public reporting burden for this collection of information is estimated to average 1.50 hours per response.

Type of Respondents: Individual faculty and administrators in public and private U.S. universities, businesses, and individual researchers at federal agricultural research institutions.

Estimated Number of Respondents: 5,000 per annum.

Estimated Number of Responses: 5,900 per annum.

Estimated Total Annual Burden on Respondents: 9,900 per annum.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Copies of the information collection may be obtained from Tamoria Thompson-Hall, the Agency Information Collection Coordinator, at (202) 690-1690 or e-mail at Tamoria.Thompson@usda.gov. Comments may be sent to Dr. Jennifer Long, Visiting Assistant Research Professor, Department of Biological Sciences, University of Illinois, 845 West Taylor Street (MC 066), Chicago, IL 60607 or e-mail at vernlong@uic.edu or to the Desk Officer for Agriculture, Office of Information and Regulatory Affairs, Office of Management and Budget, Washington, DC 20503. All comments received will be available for public inspection during regular business hours by contacting Peter Tabor, Lead International Trade Specialist, at the Foreign Agricultural Service of the U.S. Department of Agriculture, 1400 Independence Avenue, SW., South Building, Room 5930, Washington, DC 20250. Persons with disabilities who require an alternative means of communication of information (Braille, large print, audiotape, etc.) should contact USDA's Target Center at (202) 720-2600 (voice and TDD). All responses to this notice will be summarized and included in the request for OMB approval of the proposed information collection. All comments will become a matter of public record.

Government Paperwork Elimination Act: FAS is committed to compliance with the Government Paperwork Elimination Act, which requires Government agencies, in general, to provide the public the option of submitting information or transacting business electronically to the maximum extent possible.

Signed at Washington, DC, on March 19, 2008.
Michael W. Yost,
Administrator, Foreign Agricultural Service.

[FR Doc. E8-6506 Filed 3-31-08; 8:45 am]

BILLING CODE 3410-10-M